DEPARTMENT OF ENERGY

Federal Energy Regulatory Commission

Notice of Application for Amendment of License and Soliciting Comments, Motions To Intervene, and Protests

August 3, 2006.

Take notice that the following application has been filed with the Commission and is available for public inspection:

a. Application Type: Amendment of license to increase the installed capacity.

b. Project No.: 2330-063.

c. Date Filed: July 3, 2006.

d. Applicant: Erie Boulevard Hydropower, L.P.

e. Name of Project: Lower Raquette River Project.

f. Location: The Lower Raquette River Project is located on the Raquette River in the towns of Potsdam and Norwood in St. Lawrence County, New York.

g. Filed Pursuant to: Federal Power Act, 16 U.S.C. 791a-825r.

h. Applicant Contact: Mr. Samuel Hirschey, P.E., Erie Boulevard Hydropower, L.P., 225 Greenfield Parkway, Suite 201, Liverpool, New York, 13088, telephone: (315) 413-2790.

i. FERC Contact: Any questions on this notice should be addressed to Ms. Linda Stewart at (202) 502-6680, or e-mail address: linda.stewart@ferc.gov.

j. Deadline for filing comments and or motions: September 5, 2006.

The Commission's Rules of Practice and Procedure require all intervenors filing documents with the Commission to serve a copy of that document on each person in the official service list for the project. Further, if an intervenor files comments or documents with the Commission relating to the merits of an issue that may affect the responsibilities of a particular resource agency, they must also serve a copy of the document on that resource agency.

k. Description of Request: Erie Boulevard Hydropower, L.P. proposes to increase the installed capacity of the Lower Raquette River Project by replacing the existing turbine in the powerhouse of each of the four developments: Norwood, East Norfolk, Norfolk, and Raymondville. The proposed turbine upgrades would facilitate a change at all four developments from the existing store and release mode of operation to a run-of-river mode of operation. The total installed capacity of the project would increase from 12.0 megawatts to 18.5 megawatts and the total hydraulic capacity of the project would increase from 6,625 cubic feet per second to 8,503 cubic feet per second.

Additionally, Erie Boulevard Hydropower, L.P. proposes to accelerate the implementation of the one-inch clear spacing trashracks and fish movement flow at the Norwood development from 2010 (pursuant to the April 22, 1998, Raquette River Settlement Agreement) to 2007. The licensee also proposes to install upstream eel passage at all four developments.

l. Locations of the Application: A copy of the application is available for inspection and reproduction at the Commission's Public Reference Room, located at 888 First Street, NE., Room 2A, Washington, DC 20426, or by calling (202) 502-8371. Information about this filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, or “MOTION TO INTERVENE”, as applicable, and the Project Number of the particular application to which the filing refers. All documents (original and eight copies) should be filed with: Magalie R. Salas, Secretary, Federal Energy Regulatory Commission, 888 First Street, NE., Washington DC 20426. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E6-13067 Filed 8-9-06; 8:45 am]

BILLING CODE 6717-01-P